DEPARTMENT OF AGRICULTURE

Submission for OMB Review; Comment Request

February 22, 2001.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602.

Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: Farmer Program Account Servicing Policies—7 CFR part 1951-S.

OMB Control Number: 0560-0161.

Summary of Collection: The Farm Service Agency's (FSA) Farm Loan Program (FLP) provides supervised credit in the form of loans to family farmers and ranchers to purchase land and finance agricultural production. The regulations covering this information collection package describes the policies and procedures the agency will use to service most FLP loans when they become delinquent. These loans include Operating, Farm Ownership, Soil and Water, Softwood Timber Production, Emergency; Economic Emergency, Economic Opportunity, Recreation, and Rural Housing loans for farm service buildings. Servicing of accounts is administered in accordance with the provisions of the Consolidated Farm and Rural Development Act (CONACT) as amended by the Food Security Act of 1985, the Agriculture Credit Act of 1987, the Food Agriculture Conservation and Trade Act of 1990, the Agricultural Credit Improvement Act of 1992, and the Federal Agriculture Improvement and Reform Act of 1996. The Agricultural Credit Act of 1987 was intended to ensure that private individuals who have obtained a loan from the U.S. Treasury through the Department of Agriculture are all treated equally when they default on that loan. FSA is modifying the information collection to require borrowers to document the value of added improvements to real estate used in securing a shared appreciation agreement.

Need and Use of the Information: FSA will use the tax returns provided by borrowers to document the validity of the amount of capital improvements being claimed by the borrower. If information is not collected, borrowers may not have the remaining contributory value of capital improvements made during the term of the Shared Appreciation Agreement deducted when the recapture amount under the agreement is calculated.

Description of Respondents: Farms; Individuals or households; Business or other for-profit.

Number of Respondents: 12,681.

Frequency of Responses: Reporting: On occasion.

Total Burden Hours: 13,109.

Farm Service Agency

Title: Environmental Quality Incentives Program (EQIP).

OMB Control Number: 0560-0174.

Summary of Collection: The Natural Resources Conservation Service (NRCS) in partnership with the Farm Service Agency (FSA) administers the Environmental Quality Incentives Program (EQIP). EQIP provides for Federal financial, technical, and educational long-term cost-share and incentive assistance for conservation treatment to eligible land users. Local work groups identify significant natural resource concerns and develop a need assessment proposal. The proposal is forwarded to the NRCS State Conservationist who, in consultation with the State Technical Committee, decides which areas deserve designation as a priority area. NRCS works with landowners and operators in the priority areas to develop conservation plans that incorporate conservation practices that will meet EQIP objectives. Landowners apply for cost-share and incentive payments under EQIP by completing a CCC-1200 form. Other forms are used once an applicant is approved for participation in the program.

Need and Use of the Information: FSA collects information to determine eligibility for the EQIP program and too ensure that those landowners selected will assist the Federal government in remedying the identified natural resource concerns for that area. If the information were not collected, NRCS and FSA would not be able to distribute the EQIP funds and monitor their use.

Description of Respondents: Individuals or household; Farms.

Number of Respondents: 92,500.

Frequency of Responses: Reporting: Other (When applying for program).

Total Burden Hours: 444,609.

Farm Service Agency.

Title: Lamb Meat Adjustment Assistance Program (LMAAP).

OMB Control Number: 0560-0205.

Summary of Collection: The Lamb Meat Adjustment Assistance Program (LMAAP) is administered and implemented under the general direction and supervision of the Farm Service Agency (FSA) through its State and County Committees. Authorizing legislation for LMAAP provides for the re-establishment of farmers' purchasing power by making payments in connection with the normal production of any agricultural commodity for domestic consumption. The objective of the LMAAP program is to make direct payments to producers of sheep and lamb operations to help them weather the current economic crisis, as well as help improve their production efficiencies and the marketability of lamb meat during the 3 year period from July 21, 1999, through July 31, 2002. FSA will collect information using form FSA 383.

Need and Use of the Information: FSA will collect the following information: (1) sheep and lamb operation name; (2) each related producer's name; (3) ID number and shares; (4) the number of rams purchased for the intended purpose of breeding; (5) the number of eligible sheep enrolled in an eligible sheep improvement program; and/or (6) the type and cost of the facility improvement. The information is needed to verify commodity and producer eligibility and calculate payment amounts. Without the information from the producers, FSA would be unable to administer the program to provide direct payments to the sheep and lamb operations.

Description of Respondents: Farms; Individuals or households; Business or other-for-profit.

Number of Respondents: 60,000.

Frequency of Responses: Reporting: Annually.

Total Burden Hours: 24,240.

Agricultural Marketing Service

Title: Cotton Classing, Testing, and Standards.

OMB Control Number: 0581-0008.

Summary of Collection: The U.S. Cotton Standards Act, 7 U.S.C. 51, 53 and 55, directs and authorizes the USDA to supervise the various activities directly associated with the classification or grading of cotton, cotton linters, and cottonseed based on official USDA Standards. The Cotton Division of the Agricultural Marketing Service carries out this supervision and is responsible for the maintenance of the functions to which these forms relate.

Need and Use of the Information: The Agricultural Marketing Service uses the following forms to collect information: Owners of cotton submitted Form CN-357 to request cotton classification services. The request contains information for USDA to ascertain proper ownership of the samples submitted, distribute classification results, and bill for services. Information about the origin and handling of the cotton is necessary in order to properly evaluate and classify the samples.

Cottons gins and warehouses seeking to serve as licensed samplers submit form CN-246. The license period is five years. Licenses issued by the USDA-AMS Cotton Division authorize the warehouse/gin to draw and submit samples to insure the proper application of standards in the classification of cotton and to prevent deception in their use.

Form CN-383 is submitted by cotton producers, ginners, warehousemen, cooperatives, manufacturers, merchants, and crushers interested in acquiring a set of cotton grade and staple standards for Upland and Pima cotton.

Description of Respondents: Business or other for-profit; Individuals or household.

Number of Respondents: 797.

Frequency of Responses: Reporting: Annually; other (every 5 yr.).

Total Burden Hours: 119.

Agricultural Marketing Service

Title: Cotton Classification and Market News Service.

OMB Control Number: 0581-0009.

Summary of Collection: The Cotton Statistics and Estimates Act, 7 U.S. Code 471-476, authorizes and directs the Secretary of Agriculture to collect and publish annually, statistics or estimates concerning the grades and staple lengths of stocks of cotton, known as the carryover, on hand on the 1st of August each year in warehouses and other establishments of every character in the continental U.S; and following such publication each year, to publish at intervals, in his/her discretion, his/her estimate of the grades and staple length of cotton of the then current crop (7 U.S.C. 471). Additionally, Agricultural Marketing Service (AMS) collects, authenticates, publishes, and distributes timely information of the market supply, demand, location, and market prices for cotton (7 U.S.C. 473B).

Need and Use of the Information: AMD will collect information on the quality of cotton in the carryover stocks along with the size or volume of the carryover. This information is needed and used by all segments of the cotton industry. Growers use this information in making decisions relative to marketing their present crop and planning for the next one; cotton merchants use the information in marketing decisions; and the mills that provide the data also use the combined data in planning their future purchase to cover their needs. Importers of U.S. cotton use the data in making their plans for purchases of U.S. cotton. AMS and other government agencies are users of the compiled information.

Description of Respondents: Business or other for-profit; Individuals or households.

Number of Respondents: 495.

Frequency of Responses: Reporting: On occasion; Weekly; Annually.

Total Burden Hours: 226.

Agricultural Marketing Service

Title: Federal Seed Act Program.

OMB Control Number: 0581-0026.

Summary of Collection: The Federal Seed Act (FSA) (7 U.S.C. 1551-1611) regulates agricultural and vegetable seeds in interstate commerce. Agricultural and vegetable seeds shipped in interstate commerce are required to be labeled with certain quality information such as the name of the seed, the purity, the germination, and the noxious-weed seeds of the state into which the seed is being shipped. State seed regulatory agencies refer to the Agricultural Marketing Service (AMS) complaints involving seed found to be mislabeled and to have moved in interstate commerce. AMS investigates the alleged violations and if the violation is substantiated, takes regulatory action ranging from letters of warning to monetary penalties. AMS will collect information from records of each lot of seed and make them available for inspection by agents of the Secretary.

Need and Use of the Information: The information collected consists of records pertaining to interstate shipments of seed that have been alleged to be in violation of the FSA. The shipper's records pertaining to a complaint are examined by FSA program specialists and are used to determine if a violation of the FSA occurred. The records are used to determine the precautions taken by the shipper to assure that the seed was accurately labeled. If this information were not collected, it would be impossible to examine pertinent records to resolve complaints of violations.

Description of Respondents: Business or other for-profit; State. Local or Tribal Government; Farms.

Number of Respondents: 2,997.

Frequency of Responses: Recordkeeping; Reporting: On occasion.

Total Burden Hours: 37,215.

Agricultural Marketing Service

Title: Farmer's Market Questionnaire.

OMB Control Number: 0581-0169.

Summary of Collection: The Transportation and Marketing (T&M) Program, Agricultural Marketing Service (AMS) conducts research to find better designs, development techniques, and operating methods for modern farmer's markets under the Agency's Wholesale and Alternative Markets Program. Recommendations are made available to local decision-makers interested in constructing modern farmer's markets to serve area producers and consumers. Individual studies are conducted in close cooperation with local interested parties.

Need and Use of the Information: The information will be collected using form TM-6 “Farmer's Market Questionnaire.” The form submitted for approval will serve as a survey instrument to obtain a clearer picture of existing farmer's market structure to provide a basis for the future design of modern direct marketing facilities and will provide a measure of growth over the last 4 years. T&M researchers will survey by mail, with telephone follow-up, the managers of farmer's markets identified in the 2000 National Farmer's Market Directory. In addition, provision will be made for e-mail reporting. These markets represent a varied range of sizes, geographical locations, types, ownership, and structure and will provide a valid overview of farmer's markets in the United States. Information such as the size of markets, operating times and days, retail and wholesale sales, management structure, and rules and regulations governing the markets are all important questions that need to be answered in the design of a new market. The information developed by this survey will support better designs, development techniques, and operating methods for modern farmers markets and outline improvements that can be applied to revitalize existing markets. If this information is not collected, the ongoing research to develop new farmer's markets must rely on limited and often anecdotal information. This narrow focus will limit the ability of researched to provide effective designs and development plans for new markets where such information is not immediately available.

Description of Respondents: Not-for-profit institutions.

Number of Respondents: 2,860.

Frequency of Responses: Reporting: Biennially.

Total Burden Hours: 358.

Forest Service

Title: Residential Fuelwood and Post Assessment, Any State, Year.

OMB Control Number: 0596-0009.

Summary of Collection: The Forest and Rangeland Renewable Resource Research Act of 1978 (16 U.S.C. 1600), (as amended by the Energy Security Act of 1980 (42 U.S.C. 8701)) requires the Secretary of Agriculture to make and keep current a comprehensive survey and analysis of the present and prospective conditions of and requirements for renewable resources from forests and rangelands of the United States and of the supplies of such resources. Wood was the major source of energy for households in the U.S. until the 1880's. Fuelwood use has dropped sharply in this century with greater use occurring during the Great Depression and World War II. But by 1970, less than 2 percent of all households used wood as a primary source or heating fuel. During this period of decline, the Forest Service (FS) monitored production of wood for household fuel by interviewing rural households to determine harvest from farm woodlots. The FS will collect information using a survey.

Need and Use of the Information: FS will collect information to determine the level of renewable resources used for fuelwood and fence posts by residential households and logging contractors. The information will enable land managers to determine what timber to sell for use as fuelwood or fence posts, how well the local forested land will meet the demand for these timber products, and how to project future demands on these renewable natural resources for fuelwood and fence posts. Also, the information will be used to determine the types of facilities households use to heat their home with wood, such as wood burning stoves or fireplaces; the type of land from which the wood will be cut; the conditions of the wood that will be cut, that is whether the trees will be dead or alive. If the information is not collected, FS will not know the quantity of fuelwood and posts produced in selected states or the impact of harvesting these products on the timber resource.

Description of Respondents: Individuals or households; Business or other for-profit.

Number of Respondents: 2,919.

Frequency of Responses: Reporting: Other (annually but not in each State).

Total Burden Hours: 199.

Forest Service

Title: Commercial Use of Woodsy Owl Symbol—36 CFR Part 272.

OMB Control Number: 0596-0087.

Summary of Collection: The Forest Service National Symbols Coordinator will evaluate the data to determine if an individual corporation, or organization, requesting a license to use the Woodsy Owl symbol commercially shoud be granted a license or, if currently licensed to determine the royalty fee the licensed entity must pay to the agency based on a percentage of the licensee's total sales and whether the licensed entity has met its stated objectives. Part 272 of Title 36 CFR authorizes the Chief of the Forest Service to approve commercial use of the Woodsy Owl symbol and to collect royalty fees for such use. An individual or corporation may apply for a Woodsy Owl license by contacting Forest Service personnel by telephone, fax, and e-mail or by writing.

Need and Use of the Information: FS will collect information to determine how long the individual, corporation, or organization has been in business; the products the individual, corporation, or organization sells or plans to see; the geographical location from which the products will be sold; the projected sales volume; and how the individual, corporation or organization plans to market the products. If information is not collected royalty fees would not be collected in keeping with federal cash management policies, and quantity of merchandise objectives would not be effectively monitored.

Description of Respondents: Business or other for-profit.

Number of Respondents: 10.

Frequency of Responses: Reporting: Quarterly.

Total Burden Hours: 20.

Forest Service

Title: Public Perceptions of Pacific Northwest National Forest System Land Management Practices.

OMB Control Number: 0596-NEW.

Summary of Collection: National Forests are managed by Congressional mandates with input from citizens. These mandates, like the Multiple Use Sustained Acts of 1960 and the National Forest Management Act of 1976 and others, require the Forest Service to produce plenty of many different resources values. In 1994, the Forest Service adopted the Northwest Forest Plan in response to perceptions the public had that Forest Service land management practices on National Forests in western Washington, western Oregon and northern California might have negative impacts on timber resources and threaten endangered species, such as the northern spotted owl. Management of National Forests, including their appearances, has shaped the way people view forest practices. Thus, there is a need to find out how the general public perceives forest management practices in order to affect management decisions and mitigate controversy. Determining what the public views as acceptable and aesthetically pleasing can help balance harvest and recreation, and other public needs and expectations. The Forest Service will collect information using a survey.

Need and Use of the Information: FS will collect information to identify the type and distribution of perceptions of alternative timber harvest methods that might be implemented in national forests. The information will be used to help the Forest Service gain a better understanding of the western Michigan, western Oregon, and northern California residents' perceptions of the agency's land management practices on the National Forest in these areas. If the information is not collected, forestry management, resource, and harvest decisions will be made without well-informed regard to current public sentiment and expectation.

Description of Respondents: Individuals or households.

Number of Respondents: 1,700.

Frequency of Responses: Reporting: Other (one time).

Total Burden Hours: 425.

National Agriculture Statistics Service

Title: Cotton Ginning Survey.

OMB Control Number: 0535-0220.

Summary of Collection: Primary function of the National Agricultural Statistics Services (NASS) is to prepare and issue state and national estimates of crop and livestock production under the authority of 7 U.S.C. 2204(a). The Cotton Ginning Survey provides statistics concerning cotton ginning for specific dates and geographic regions and aids in forecasting cotton production, which is required under 7 U.S.C. Section 475.

Need and Use of the Information: The ginning data collected provides (1) all segments of the cotton industry-buyers, brokers, crushers, shippers, textile firms, and researchers with exact quantities of cotton available at specific geographic locations within the U.S. on a regular basis; (2) precise statistics, especially when at least 50 percent of the forecasted cotton production has been ginned in a state; and (3) final season ginning data that is used to establish final production. If the information were collected less frequent, the cotton industry would be without county level quantities ginned that could seriously affect transportation costs and marketing strategies.

Description of Respondents: Business or other for-profit.

Number of Respondents: 1,131.

Frequency of Responses: Reporting: Other (biweekly Sept.-Jan.).

Total Burden Hours: 1,065.

Nancy B. Sternberg,
Departmental Clearance Officer.

[FR Doc. 01-4760 Filed 2-26-01; 8:45 am]

BILLING CODE 3410-01-M